DEPARTMENT OF TRANSPORTATION

Federal Aviation Administration

14 CFR Part 97

[Docket No. 30517 Amdt. No. 3188]

Standard Instrument Approach Procedures, Weather Takeoff Minimums; Miscellaneous Amendments

AGENCY: Federal Aviation Administration (FAA), DOT.

ACTION: Final rule.

SUMMARY: This amendment establishes, amends, suspends, or revokes Standard Instrument Approach Procedures (SIAPs) and/or Weather Takeoff Minimums for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective October 20, 2006. The compliance date for each SIAP and/or Weather Takeoff Minimums is specified in the amendatory provisions.

The incorporation by reference of certain publications listed in the regulations is approved by the Director of the Federal Register as of October 20, 2006.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

For Purchase—Individual SIAP and Weather Takeoff Minimums copies may be obtained from:

1. FAA Public Inquiry Center (APA-200), FAA Headquarters Building, 800 Independence Avenue, SW., Washington, DC 20591; or

2. The FAA Regional Office of the region in which the affected airport is located.

By Subscription—Copies of all SIAPs and Weather Takeoff Minimums mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to Title 14 of the Code of Federal Regulations, part 97 (14 CFR part 97), establishes, amends, suspends, or revokes SIAPs and/or Weather Takeoff Minimums. The complete regulatory description of each SIAP and/or Weather Takeoff Minimums is contained in official FAA form documents which are incorporated by reference in this amendment under 5 U.S.C. 552(a), 1 CFR part 51, and 14 CFR part 97.20. The applicable FAA Forms are identified as FAA Forms 8260-3, 8260-4, 8260-5 and 8260-15A. Materials incorporated by reference are available for examination or purchase as stated above.

The large number of SIAPs and/or Weather Takeoff Minimums, their complex nature, and the need for a special format make their verbatim publication in the Federal Register expensive and impractical. Further, airmen do not use the regulatory text of the SIAPs and/or Weather Takeoff Minimums but refer to their depiction on charts printed by publishers of aeronautical materials. Thus, the advantages of incorporation by reference are realized and publication of the complete description of each SIAP and/or Weather Takeoff Minimums contained in FAA form documents is unnecessary. The provisions of this amendment state the affected CFR sections, with the types and effective dates of the SIAPs and/or Weather Takeoff Minimums. This amendment also identifies the airport, its location, the procedure identification and the amendment number.

The Rule

This amendment to 14 CFR part 97 is effective upon publication of each separate SIAP and/or Weather Takeoff Minimums as contained in the transmittal. Some SIAP and/or Weather Takeoff Minimums amendments may have been previously issued by the FAA in a Flight Data Center (FDC) Notice to Airmen (NOTAM) as an emergency action of immediate flight safety relating directly to published aeronautical charts. The circumstances which created the need for some SIAP, and/or Weather Takeoff Minimums amendments may require making them effective in less than 30 days. For the remaining SIAPs and/or Weather Takeoff Minimums, an effective date at least 30 days after publication is provided.

Further, the SIAPs and/or Weather Takeoff Minimums contained in this amendment are based on the criteria contained in the U.S. Standard for Terminal Instrument Procedures (TERPS). In developing these SIAPs and/or Weather Takeoff Minimums, the TERPS criteria were applied to the conditions existing or anticipated at the affected airports. Because of the close and immediate relationship between these SIAPs and/or Weather Takeoff Minimums and safety in air commerce, I find that notice and public procedure before adopting these SIAPs and/or Weather Takeoff Minimums are impracticable and contrary to the public interest and, where applicable, that good cause exists for making some SIAPs and/or Weather Takeoff Minimums effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on October 6, 2006.
James J. Ballough,
Director, Flight Standards Service.

Adoption of the Amendment

Accordingly, pursuant to the authority delegated to me, under Title 14, Code of Federal Regulations, part 97 (14 CFR part 97) is amended by establishing, amending, suspending, or revoking Standard Instrument Approach Procedures and Weather Takeoff Minimums effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 23 November 2006

King Salmon, AK, King Salmon, Takeoff Minimums and Textual DPs, Orig

Tok, AK, Tok Junction, RNAV (GPS)-A, Orig

Tok, AK, Tok Junction, RNAV (GPS) RWY 25, Orig, CANCELLED

North Little Rock, AR, North Little Rock Muni, LOC/DME RWY 5, Orig

Phoenix, AZ, Williams Gateway, RNAV (GPS) RWY 12C, Amdt 1

Bakersfield, CA, Meadows Field, ILS OR LOC/DME RWY 30R, Amdt 29

Bakersfield, CA, Meadows Field, VOR/DME RWY 30R, Amdt 9

Marysville, CA, Yuba County, ILS OR LOC RWY 14, Amdt 5

Redding, CA, Redding Muni, RNAV (GPS) RWY 34, Orig

Redding, CA, Redding Muni, GPS RWY 34, Orig, CANCELLED

Redding, CA, Redding Muni, Takeoff Minimums and Textual DP, Amdt 5

Sacramento, CA, Sacramento Intl, ILS OR LOC RWY 34L, Amdt 7

Sacramento, CA, Sacramento Intl, RNAV (GPS) RWY 34L, Amdt 1

Sacramento, CA, Sacramento Intl, Takeoff Minimums and Textual DP, Orig

Pueblo, CO, Pueblo Memorial, RNAV (GPS) RWY 26R, Amdt 1

Oxford, CT, Waterbury-Oxford, RNAV (GPS) RWY 18, Amdt 1

Oxford, CT, Waterbury-Oxford, Takeoff Minimums and Textual DP, Amdt 5

New Smyrna Beach, FL, New Smyrna Beach Muni, RNAV (GPS) RWY 29, Orig

New Smyrna Beach, FL, New Smyrna Beach Muni, RNAV (GPS) RWY 6, Orig

New Smyrna Beach, FL, New Smyrna Beach Muni, RNAV (GPS) RWY 24, Orig

New Smyrna Beach, FL, New Smyrna Beach Muni, RNAV (GPS) RWY 2, Orig

New Smyrna Beach, FL, New Smyrna Beach Muni, NDB RWY 29, Amdt 2

New Smyrna Beach, FL, New Smyrna Beach Muni, Takeoff Minimums and Textual DP, Amdt 2

Orlando, FL, Orlando Intl, RNAV (GPS) RWY 18L, Amdt 1

St. Petersburg-Clearwater, FL, St. Petersburg-Clearwater Intl, RNAV (GPS) RWY 35R, Orig

St. Petersburg-Clearwater, FL, St. Petersburg-Clearwater Intl, GPS RWY 35R, Orig, CANCELLED

Tampa, FL, Peter O. Knight, RNAV (GPS) RWY 21, Orig

Tampa, FL, Peter O. Knight, NDB-A, Amdt 1

Tampa, FL, Peter O. Knight, NDB RWY 3, Amdt 11

Winter Haven, FL, Winter Haven's Gilbert, RNAV (GPS) RWY 11, Orig

Calhoun, GA, Tom B. David Field, RNAV (GPS) RWY 17, Orig

Calhoun, GA, Tom B. David Field, RNAV (GPS) RWY 35, Orig

Calhoun, GA, Tom B. David Field, NDB OR GPS RWY 35, Amdt 1A, CANCELLED

Hailey, ID, Friedman Memorial, RNAV (RNP) Z RWY 31, Orig

Hailey, ID, Friedman Memorial, RNAV (RNP) Y RWY 31, Amdt 1

Hailey, ID, Friedman Memorial, RNAV (GPS) W RWY 31, Amdt 2

Hailey, ID, Friedman Memorial, Takeoff Minimums and Textual DP, Amdt 1

Nampa, ID, Nampa Muni, RNAV (GPS) RWY 11, Orig

Nampa, ID, Nampa Muni, GPS RWY 11, Orig, CANCELLED

Lexington, KY, Blue Grass, ILS OR LOC RWY 22, Amdt 20

Boston, MA, General Edward Lawrence Logan Intl, RNAV (GPS) RWY 32, Orig

Boston, MA, General Edward Lawrence Logan Intl, Takeoff Minimums and Textual DP, Amdt 12

Howell, MI, Livingston County Spencer J. Hardy, ILS OR LOC RWY 13, Orig

Duluth, MN, Duluth Intl, RNAV (GPS) RWY 9, Amdt 1

Duluth, MN, Duluth Intl, RNAV (GPS) RWY 27, Orig

Duluth, MN, Duluth Intl, Takeoff Minimums and Textual DPs, Orig

International Falls, MN, Falls Intl, ILS OR LOC/DME RWY 13, Orig

International Falls, MN, Falls Intl, LOC BC RWY 13, Amdt 9A

Hattiesburg/Laurel, MS, Hattiesburg-Laurel Regional, RNAV (GPS) RWY 18, Orig

Hattiesburg/Laurel, MS, Hattiesburg-Laurel Regional, RNAV (GPS) RWY 36, Orig

Hattiesburg/Laurel, MS, Hattiesburg-Laurel Regional, GPS RWY 18, Orig, CANCELLED

Hattiesburg/Laurel, MS, Hattiesburg-Laurel Regional, GPS RWY 36, Orig, CANCELLED

David City, NE, David City Muni, RNAV (GPS) RWY 14, Orig

David City, NE, David City Muni, RNAV (GPS) RWY 32, Orig

David City, NE, David City Muni, VOR/DME RWY 32, Orig

David City, NE, David City Muni, Takeoff Minimums and Textual DP, Orig

Manchester, NH, Manchester, ILS OR LOC RWY 6, Amdt 1

Princeton/Rocky Hill, NJ, Princeton, VOR-A, Amdt 7

Princeton/Rocky Hill, NJ, Princeton, RNAV (GPS) RWY 10, Orig

Princeton/Rocky Hill, NJ, Princeton, RNAV (GPS) RWY 28, Orig

Princeton/Rocky Hill, NJ, Princeton, Takeoff Minimums and Textual DP, Amdt 2

Las Vegas, NV, McCarran Intl, RNAV (GPS) RWY 1L, Orig, CANCELLED

Las Vegas, NV, McCarran Intl, RNAV (GPS) RWY 19L, Amdt 1

Las Vegas, NV, McCarran Intl, RNAV (GPS) RWY 19R, Amdt 1

Las Vegas, NV, McCarran Intl, RNAV (GPS) RWY 25L, Orig, CANCELLED

Las Vegas, NV, McCarran Intl, RNAV (GPS) RWY 25R, Orig, CANCELLED

Mooresville, NC, Lake Norman Airpark, RNAV (GPS) RWY 14, Orig

Mooresville, NC, Lake Norman Airpark, Takeoff Minimums and Textual DP, Orig

New Bern, NC, Craven County Regional, RNAV (GPS) RWY 4, Orig

New Bern, NC, Craven County Regional, RNAV (GPS) RWY 22, Orig

New Bern, NC, Craven County Regional, VOR RWY 4, Amdt 4

New Bern, NC, Craven County Regional, VOR RWY 22, Amdt 2

Oklahoma City, OK, Will Rogers World, ILS OR LOC/DME RWY 35L, Orig

Oklahoma City, OK, Will Rogers World, RNAV (GPS) Y RWY 17L, Orig-B

Oklahoma City, OK, Will Rogers World, RNAV (RNP) Z RWY 35R, Orig

Oklahoma City, OK, Will Rogers World, RNAV (GPS) Y RWY 35R, Orig-B

Oklahoma City, OK, Will Rogers World, RNAV (RNP) Z RWY 17L, Orig

Oklahoma City, OK, Will Rogers World, LOC BC RWY 35L, Amdt 10E CANCELLED

Redmond, OR, Roberts Field, ILS OR LOC RWY 22, Amdt 2

Butler, PA, Butler County/K W Scholter Field, ILS OR LOC RWY 8, Amdt 7

Butler, PA, Butler County/K W Scholter Field, RNAV (GPS) RWY 8, Orig

Butler, PA, Butler County/K W Scholter Field, GPS RWY 8, Orig-A, CANCELLED

Franklin, PA, Venango Regional, VOR RWY 3, Amdt 5

Lock Haven, PA, William T. Piper Memorial, Takeoff Minimums and Textual DP, Amdt 1

Mifflintown, PA, Mifflintown, Takeoff Minimums and Textual DP, Amdt 1

Wise, VA, Lonesome Pine, RNAV (GPS) RWY 24, Orig

Wise, VA, Lonesome Pine, GPS RWY 24, Orig-A, CANCELLED

Green Bay, WI, Austin Straubel International, ILS OR LOC RWY 36, Amdt 8

Evanston, WY, Evanston-Uinta County Burns Field, RNAV (GPS) RWY 5, Amdt 2

Evanston, WY, Evanston-Uinta County Burns Field, RNAV (GPS) RWY 23, Amdt 2

Evanston, WY, Evanston-Uinta County Burns Field, VOR/DME RWY 5, Orig

Evanston, WY, Evanston-Uinta County Burns Field, VOR/DME RWY 23, Amdt 1

[FR Doc. E6-17373 Filed 10-19-06; 8:45 am]

BILLING CODE 4910-13-P